DEPARTMENT OF AGRICULTURE

Forest Service

Trinity County Resource Advisory Committee

AGENCY: USDA Forest Service.

ACTION: Notice of Meeting.

SUMMARY: The Trinity County Resource Advisory Committee (RAC) will meet on September 13, 2004 in Weaverville, California. The purpose of the meeting is to discuss the selection of Title II projects under Public law 106-393, H.R. 2389, the Secure Rural Schools and Community Self-Determination Act of 2000, also called the “Payments to States” Act.

DATES: The meeting will be held on September 13, 2004 from 6:30 to 8:30 p.m.

ADDRESSES: The meeting will be held at the Trinity County Office of Education, 201 Memorial Drive, Weaverville, California.

FOR FURTHER INFORMATION CONTACT: Joyce Andersen, Designated Federal Official, USDA, Shasta Trinity National Forests, P.O. Box 1190, Weaverville, CA 96093. Phone: (530) 623-1709. E-mail: jandersen@fs.fed.us.

SUPPLEMENTARY INFORMATION: Agenda items include a review of current projects approved by the committee, and a discussion on the use of unexpended funds. The meeting is open to the public. Public input opportunity will be provided and individuals will have the opportunity to address the committee at that time.

Dated: August 23, 2004.
William D. Metz,
Deputy Forest Supervisor.

[FR Doc. 04-19699 Filed 8-27-04; 8:45 am]

BILLING CODE 3410-11-M